DEPARTMENT OF HEALTH AND HUMAN SERVICES

Office of the Secretary

Findings of Research Misconduct; Correction

AGENCY: Office of the Secretary, HHS.

ACTION: Correction of notice.

SUMMARY: This document corrects errors that appeared in the notice published in the May 31, Federal Register entitled “Findings of Research Misconduct.”

DATES: Effective Date: June 7, 2012.

Applicability Date: The correction notice is applicable for the Findings of Research Misconduct notice published on May 31, 2012.

FOR FURTHER INFORMATION CONTACT: Karen Gorirossi or Sheila Fleming at 240-453-8800.

SUPPLEMENTARY INFORMATION:

I. Background

In FR Doc. 2012-13126 of May 31, 2012 (77 FR 32116-32117), there is a typographical error in the first name of the Respondent. The error is identified and corrected in the Correction of Errors section below.

II. Correction of Errors

In FR Doc. 2012-13126 of May 31, 2012 (77 FR 32116-32117), make the following corrections:

1. On page 32116, third column, last paragraph, change the name “Juan Ma, Ph.D.” in the first line to read “Jian Ma, Ph.D.”

2. On page 32117, first column, first paragraph, change the name “Dr. Juan Ma” to read “Dr. Jian Ma.”

Dated: May 31, 2012.
John Dahlberg,
Director, Division of Investigative Oversight, Office of Research Integrity.

[FR Doc. 2012-13829 Filed 6-6-12; 8:45 am]

BILLING CODE 4150-31-P